DEPARTMENT OF JUSTICE

Drug Enforcement Administration

Agency Information Collection Activities: Proposed Collection; Comment Request

ACTION: 30-Day Notice of Information Collection Under Review: Extension of a currently approved collection; Import/Export Declaration: Precursor and Essential Chemicals—DEA Form 486.

The Department of Justice (DOJ), Drug Enforcement Administration (DEA), has submitted the following information collection request to the Office of Management and Budget (OMB) for review and approval in accordance with the Paperwork Reduction Act of 1995. The proposed information collection is published to obtain comments from the public and affected agencies. This proposed information collection was previously published in the Federal Register at Volume 66, Number 182, page 48275 on September, 2001, allowing for a 60 day comment period.

The purpose of this notice is to allow for an additional 30 days for public comment until December 24, 2001. This process is conducted in accordance with 5 CFR 1320.10.

Written comments and/or suggestions regarding the items contained in this notice, especially the estimated public burden and associated response time, should be directed to The Office of Management and Budget, Office of Information and Regulatory Affairs, Attention Department of Justice Desk Officer, Washington, DC 20503. Additionally, comments may be submitted to OMB via facsimile to (202) 395-7285.

Written comments and/or suggestions from the public and affected agencies concerning the proposed collection of information should address one or more of the following four points:

(1) Evaluate whether the proposed collection of information is necessary for the proper performance of the function of the agency, including whether the information will have practical utility;

(2) Evaluate the accuracy of the agency's estimate of the burden of the proposed collection of information, including the validity of the methodology and assumptions used;

(3) Enhance the quality, utility, and clarity of the information to be collected; and

(4) Minimize the burden of the collection of information on those who are to respond, including through the use of appropriate automated, electronic, mechanical, or other technological collection techniques or other forms of information technology, e.g., permitting electronic submission of responses.

Overview of this Information Collection

(1) Type of information collection: Extension of a currently approved collection.

(2) The title of the form/collection: Import/Export Declaration: Precursor and Essential Chemicals.

(3) The agency form number, if any, and the applicable component of the Department sponsoring the collection: Form No.: DEA-486. Office of Diversion Control, Drug Enforcement Administration, U.S. Department of Justice.

(4) Affected public who will be asked or required to respond, as well as a brief abstract: Primary: Business or other for-profit. Other: Individuals or households. The Chemical Diversion and Trafficking Act of 1988 requires those who import/export certain chemicals to notify the DEA 15 days prior to shipment. Information will be used to prevent shipments not intended for legitimate purposes.

(5) An estimate of the total number of respondents and the amount of time estimated for an average respondent to respond/reply: DEA Form 486: 550 respondents with an average 12 minutes per response. DEA Quarterly Report: 100 respondents with an average 30 minutes per response.

(6) An estimate of the total public burden (in hours) associated with the collection: DEA Form 486: 1,400 annual burden hours. DEA Quarterly Report: 200 annual burden hours.

If additional information is required contact: Mr. Robert B. Briggs, Clearance Officer, United States Department of Justice, Information Management and Security Staff, Justice Management Division, United States Department of Justice, Patrick Henry Building, Suite 1600, 601 D Street NW, Washington, DC 20004.

Dated: November 19, 2001.
Robert B. Briggs,
Department Clearance Officer, United States Department of Justice.

[FR Doc. 01-29290 Filed 11-21-01; 8:45 am]

BILLING CODE 4410-09-M